DEPARTMENT OF ENERGY

Federal Energy Regulatory Commission

[Docket Nos. CP04-36-000, CP04-41-000, CP04-42-000, and CP04-43-000]

Weaver's Cove Energy, LLC and Mill River Pipeline, LLC; Notice of Filing

December 30, 2003.

Take notice that on December 19, 2003, Weavery's Cove Energy, LLC (Weaver's Cove), Docket No. CP04-36-000, One New Street, Fall River, Massachusetts 02720, pursuant to section 3(a) of the Natural Gas Act (NGA), 15 U.S.C. 717b(a) and parts 153 and 380 of the Federal Energy Regulatory Commission's (Commission) Rules and Regulations, filed an application for authorization to site, construct and operate a liquefied natural gas (LNG) terminal (LNG Terminal) in Fall River, Massachusetts.

Also on December 19, 2003, Mill River Pipeline, LLC (Mill River), One New Street, Fall River, Massachusetts 02720, Docket No. CP04-41-000, pursuant to section 7(c) of the NGA and Part 157 of the Commission's Rules and Regulations file an application to construct, install, own, operate and maintain two new natural gas lateral pipelines and ancillary facilities (Laterals). Mill River also requests: (1) In Docket No. CP04-42-000, a blanket certificate pursuant to subpart F of part 157 of the Commission's Rules and Regulations to perform certain routine activities and operations; and (2) in Docket No. CP04-43-000, pursuant to subpart G of part 284 of the Commission's Rules and Regulations, authority to provide open-access transportation of natural gas for others.

Both of these filings are available for review at the Commission in the Public Reference Room or may be viewed on the Commission's Web site at http://www.ferc.gov using the “eLibrary” link. Enter the appropriate docket number, excluding the last three digits, in the docket number field to access the document. For assistance, please contact FERC Online Support at FERCOnlineSupport@ferc.gov or toll free at (866) 208-3676, or for TTY, contact (202) 502-8659.

Weaver's Cove

Weaver's Cove proposes to site, construct, and operate an LNG terminal, including a marine berth, an LNG storage tank, regasification facilities, and an LNG truck distribution facility, on a site located on Tauton River on the north end of the city of Fall River, Massachusetts. The terminal will receive LNG and deliver pipeline quality natural gas to the laterals proposed by Mill River at a pressure of approximately 1,000 psi. The terminal also will incorporate four truck filings stations for loading trucks that will transport LNG to peak shaving storage facilities and industrial customers throughout New England. The proposed terminal will have a peak day sendout capacity of 800 MMcf/d (8000,000 Dth/d).

Mill River

Mill River proposes to construct, install, own operate and maintain two laterals: Western Lateral and Northern Lateral, connecting the outlet of the proposed Weaver's Cove LNG Terminal to the interstate facilities of Algonquin Gas Transmission Company's (Algonquin). The Western Lateral will be a 2.52 mile, 24-inch diameter pipeline originated at the Weaver's Cove LNG Terminal site and terminated at the existing Algonquin 20-inch diameter G-22 lateral pipeline. The Northern Lateral will be a 3.59 mile, 24-inch diameter pipeline originated at the Weaver's Cove LNG Terminal site and terminated at the existing Algonquin G-1 12″/20″ lateral pipelines. The two laterals have a design pressure of 1,440 psi and a normal operating pressure of up to 1,000 psi.

Any questions regarding these applications are to be directed to Ted Gehrig, President, Weaver's Cove Energy, LLC and Mill River Pipeline, LLC, One New Street, Fall River, MA 02720.

There are two ways to become involved in the Commission's review of these projects. First, any person wishing to obtain legal status by becoming a party to the proceedings for these projects should, on or before the below listed comment date, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of the filings made with the Commission and must mail a copy to the applicant and to every other party in the proceeding. Only parties to the proceeding can ask for court review of the Commission orders in the proceedings.

However, a person does not have to intervene in order to have comments considered. The second way to participate is by filing with the Secretary of the Commission, as soon as possible, an original and two copies of comments in support of or in opposition to these projects. The Commission will consider these comments in determining the appropriate action to be taken, but the filing of a comment alone will not serve to make the filer a party to the proceeding. The Commission's rules require that persons filing comments in opposition to the projects provide copies of their protests only to the party or parties directly involved in the protest.

Persons may wish to comment only on the environmental review of these projects. Environmental commenters will be placed on the Commission's environmental mailing list, will receive copies of environmental documents issued by the Commission, and will be notified of meetings associated with the Commission's environmental review process. Environmental commenters will not be required to serve copies of filed documents on all other parties. However, environmental commenters are also not parties to the proceeding and will not receive copies of all documents filed by other parties or non-environmental documents issued by the Commission. They will not have the right to seek court review of the Commission's final order. Coincidentally, with this Notice of Application, the Commission is issuing a notice regarding the environmental comment process. This notice describes the comment procedures and comment deadline.¹

¹ See Notice of Status Change of Environmental Review and Expiration of Scoping Period for the Proposed Cove LNG Project, issued December 31, 2003.

The Commission may issue a preliminary determination on non-environmental issues prior to the completion of its review of the environmental aspects of the projects. This preliminary determination typically considers such issues as the need for the projects and its economic effect on existing customers of the applicants, on other pipelines in the area, and on landowners and communities. For example, the Commission considers the extent to which the applicant may need to exercise eminent domain to obtain rights-of-way for the proposed project and balances that against the non-environmental benefits to be provided by the projects. Therefore, if a person has comments on community and landowner impacts from these proposals, it is important either to file comments or to intervene as early in the process as possible.

Motions to intervene, protests and comments may be filed electronically via the internet in lieu of paper; see, 18 CFR 385.2001(a)(1)(iii) and the instructions on the Commission's Web site under the “e-Filing” link. The Commission strongly encourages electronic filings.

Comment Date: January 13, 2004.

Magalie R. Salas,
Secretary.

[FR Doc. E4-12 Filed 1-8-04; 8:45 am]

BILLING CODE 6717-01-P